ENVIRONMENTAL PROTECTION AGENCY

40 CFR Part 180

[EPA-HQ-OPP-2007-1170; FRL-8379-3]

Benfluralin, Carbaryl, Diazinon, Dicrotophos, Fluometuron, Formetanate Hydrochloride, Glyphosate, Metolachlor, Napropamide, Norflurazon, Pyrazon, and Tau-Fluvalinate; Tolerance Actions

AGENCY: Environmental Protection Agency (EPA).

ACTION: Final rule.

SUMMARY: EPA is revoking certain tolerances for the herbicides benfluralin and napropamide and the insecticides carbaryl and diazinon. Also, EPA is modifying certain tolerances for the herbicides fluometuron, glyphosate, norflurazon, and pyrazon and the insecticides carbaryl, diazinon, dicrotophos, formetanate hydrochloride, and tau-fluvalinate. In addition, EPA is establishing new tolerances for the herbicides fluometuron, glyphosate, metolachlor, and pyrazon and the insecticides carbaryl and formetanate hydrochloride. The regulatory actions finalized in this document are in follow-up to the Agency's reregistration program under the Federal Insecticide, Fungicide, and Rodenticide Act (FIFRA), and tolerance reassessment program under the Federal Food, Drug, and Cosmetic Act (FFDCA), section 408(q).

DATES: This regulation is effective September 10, 2008. Objections and requests for hearings must be received on or before November 10, 2008, and must be filed in accordance with the instructions provided in 40 CFR part 178 (see also Unit I.C. of the SUPPLEMENTARY INFORMATION).

ADDRESSES: EPA has established a docket for this action under docket identification (ID) number EPA-HQ-OPP-2007-1170. All documents in the docket are listed in the docket index available at http://www.regulations.gov. Although listed in the index, some information is not publicly available, e.g., Confidential Business Information (CBI) or other information whose disclosure is restricted by statute. Certain other material, such as copyrighted material, is not placed on the Internet and will be publicly available only in hard copy form. Publicly available docket materials are available in the electronic docket at http://www.regulations.gov, or, if only available in hard copy, at the OPP Regulatory Public Docket in Rm. S-4400, One Potomac Yard (South Bldg.), 2777 S. Crystal Dr., Arlington, VA. The Docket Facility is open from 8:30 a.m. to 4 p.m., Monday through Friday, excluding legal holidays. The Docket Facility telephone number is (703) 305-5805.

FOR FURTHER INFORMATION CONTACT: Jane Smith, Special Review and Reregistration Division (7508P), Office of Pesticide Programs, Environmental Protection Agency, 1200 Pennsylvania Ave., NW., Washington, DC 20460-0001; telephone number: (703) 308-0048; e-mail address: smith.jane-scott@epa.gov.

SUPPLEMENTARY INFORMATION:

I. General Information

A. Does This Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Access Electronic Copies of This Document?

In addition to accessing electronically available documents at http://www.regulations.gov, you may access this Federal Register document electronically through the EPA Internet under the “Federal Register” listings at http://www.epa.gov/fedrgstr. You may also access a frequently updated electronic version of 40 CFR part 180 through the Government Printing Office's e-CFR site at http://www.gpoaccess.gov/ecfr.

C. Can I File an Objection or Hearing Request?

Under section 408(g) of FFDCA, 21 U.S.C. 436a, any person may file an objection to any aspect of this regulation and may also request a hearing on those objections. The EPA procedural regulations which govern the submission of objections and requests for hearings appear in 40 CFR part 178. You must file your objection or request a hearing on this regulation in accordance with the instructions provided in 40 CFR part 178. To ensure proper receipt by EPA, you must identify docket ID number EPA-HQ-OPP-2007-1170 in the subject line on the first page of your submission. All requests must be in writing, and must be mailed or delivered to the Hearing Clerk on or before November 10, 2008.

In addition to filing an objection or hearing request with the Hearing Clerk as described in 40 CFR part 178, please submit a copy of the filing that does not contain any CBI for inclusion in the public docket that is described in ADDRESSES. Information not marked confidential pursuant to 40 CFR part 2 may be disclosed publicly by EPA without prior notice. Submit your copies, identified by docket ID number EPA-HQ-OPP-2007-1170, by one of the following methods.

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

II. Background

A. What Action Is the Agency Taking?

In the Federal Register of May 21, 2008 (73 FR 29456) (FRL-8362-1), EPA issued a proposal to revoke, modify, and establish specific tolerances for residues of the herbicides benfluralin, fluometuron, glyphosate, metolachlor, napropamide, norflurazon, and pyrazon; and the insecticides carbaryl, diazinon, dicrotophos, formetanate hydrochloride, and tau-fluvalinate. Also, the proposal of May 21 provided a 60-day comment period which invited public comment for consideration and for support of tolerance retention under FFDCA standards.

In this final rule, EPA is revoking, modifying, and establishing specific tolerances for residues of benfluralin, carbaryl, diazinon, dicrotophos, fluometuron, formetanate hydrochloride, glyphosate, metolachlor, napropamide, norflurazon, pyrazon, and tau-fluvalinate in or on commodities listed in the regulatory text of this document.

EPA is finalizing these tolerance actions in order to implement the tolerance recommendations made during the reregistration and tolerance reassessment processes (including follow-up on canceled or additional uses of pesticides). As part of these processes, EPA is required to determine whether each of the amended tolerances meets the safety standard of FFDCA. The safety finding determination of “reasonable certainty of no harm” is discussed in detail in each Reregistration Eligibility Decision (RED) and Report on FQPA Tolerance Reassessment Progress and Interim Risk Management Decision (TRED) for the active ingredient. REDs and TREDs recommend the implementation of certain tolerance actions, including modifications, to reflect current use patterns, to meet safety findings and change commodity names and groupings in accordance with new EPA policy. Printed copies of many REDs and TREDs may be obtained from EPA's National Service Center for Environmental Publications (EPA/NSCEP), P.O. Box 42419, Cincinnati, OH 45242-2419; telephone number: 1-800-490-9198; fax number: 1-513-489-8695; Internet at http://www.epa.gov/ncepihom and from the National Technical Information Service (NTIS), 5285 Port Royal Rd., Springfield, VA 22161; telephone number: 1-800-553-6847 or (703) 605-6000; Internet at http://www.ntis.gov. Electronic copies of REDs and TREDs are available on the Internet at http://www.regulations.gov and http:// www.epa.gov/pesticides/reregistration/status.htm.

In this final rule, EPA is revoking certain tolerances and/or tolerance exemptions because either they are no longer needed or are associated with food uses that are no longer registered under FIFRA in the United States. Those instances where registrations were canceled were because the registrant failed to pay the required maintenance fee and/or the registrant voluntarily requested cancellation of one or more registered uses of the pesticide active ingredient. The tolerances revoked by this final rule are no longer necessary to cover residues of the relevant pesticides in or on domestically treated commodities or commodities treated outside but imported into the United States. It is EPA's general practice to issue a final rule revoking those tolerances and tolerance exemptions for residues of pesticide active ingredients on crop uses for which there are no active registrations under FIFRA, unless any person in comments on the proposal indicates a need for the tolerance or tolerance exemption to cover residues in or on imported commodities or legally treated domestic commodities.

EPA has historically been concerned that retention of tolerances that are not necessary to cover residues in or on legally treated foods may encourage misuse of pesticides within the United States.

Generally, EPA will proceed with the revocation of these tolerances on the grounds discussed in Unit II.A. if one of the following conditions applies:

• Prior to EPA's issuance of a FFDCA section 408(f) order requesting additional data or issuance of a FFDCA section 408(d) or (e) order revoking the tolerances on other grounds, commenters retract the comment identifying a need for the tolerance to be retained.

• EPA independently verifies that the tolerance is no longer needed.

• The tolerance is not supported by data that demonstrate that the tolerance meets the requirements under the Federal Quality Protection Act (FQPA).

In response to the proposal published in the Federal Register of May 21, 2008, EPA received three general comments and one specific comment on diazinon during the 60-day public comment period, as follows:

1. General—i. Comment by private citizens. Three private citizens expressed concerns about pesticides on food and that only zero tolerance levels should be acceptable. In addition, those commenting expressed concern for pesticide use in general and their possible toxic effects on wildlife and humans.

ii. Agency response. The private citizen's comments did not take issue with any of the Agency's specific conclusions to modify, revoke, or establish certain tolerances. Also, the commenters did not refer to any specific studies which pertained to those conclusions. EPA believes that the tolerance actions finalized herein meet the safety standard of FFDCA section 408, 21 U.S.C. 346a. In developing REDs and TREDs, EPA works with stakeholders, pesticide registrants, growers, and other pesticide users, environmental and public health interests, the States, the United States of Department of Agriculture (USDA), other Federal agencies, and others to develop voluntary measures or regulatory controls needed to effectively reduce risks of concern. Such options include voluntary cancellation of pesticide products or deletion of uses, declaring certain uses ineligible or not yet eligible, restricting use of products to certified applicators, limiting the amount or frequency of use, improving use directions and precautions, adding more protective clothing and equipment requirements requiring special packaging or engineering controls, requiring no-treatment buffer zones, employing environmental and ecological safeguards, and other measures.

2. Diazinon—i. Comment by the American Mushroom Institute. The commenter expressed a need for the retention of the tolerance for diazinon in 40 CFR 180.153 on mushrooms and mentioned working with EPA's Registration Division to reinstate the mushroom use. Diazinon is considered a unique tool to control adult fly populations in mushroom production facilities (when the crop is not present). According to the commenter, these fly populations (and subsequent mechanically transmitted diseases to mushrooms) have increased dramatically on some farms since use of diazinon ceased.

ii. Agency response. The Agency published a cancellation order in the Federal Register of July 25, 2007 (72 FR 40874) (FRL-8139-6) which resulted in the immediate cancellation of certain uses of diazinon including all uses in mushroom houses. The cancellation of the uses of diazinon in mushroom houses and the subsequent proposed revocation of the diazinon tolerance on mushrooms were not due to a lack of data to support the tolerance or due to dietary risk, but rather to an exposure risk to workers during application of diazinon in mushroom houses. Since there are no current or pending uses of diazinon in mushroom houses and no resolution of the exposure risk to workers during application at this time, EPA will not retain the tolerance for diazinon in 40 CFR 180.153 on mushrooms, consistent with the Agency's policy on tolerances for canceled uses discussed earlier in this unit.

The Agency did not receive any specific comments, during the 60-day comment period, on the following pesticide active ingredients: Benfluralin, carbaryl, dicrotophos, fluometuron, formetanate hydrochloride, glyphosate, metolachlor, napropamide, norflurazon, pyrazon, and tau-fluvalinate. Therefore, the Agency is finalizing the amendments proposed in the Federal Register of May 21, 2008. For the detailed discussion of the Agency's rationale for the establishments, revocations, and modifications to the tolerances, refer to the proposed rule of May 21, 2008.

The regulatory text contained in the May 21, 2008 proposal regarding 40 CFR 180.153(a) inadvertently omitted an existing tolerance for use of diazinon on beet, garden tops at 0.7 parts per million (ppm), This was a clerical error; EPA did not intend to revoke this tolerance (and did not discuss any such revocation in the May 21, 2008 proposal). The regulatory text in this final rule corrects that error, including the existing tolerance in 40 CFR 180.153(a). The Agency also identified and corrected commodity terminology for consistency that was inadvertantly omitted in the proposal. These corrections in terminology do not affect or change which commodities are regulated; in 40 CFR 180.153 from escarole to endive in 40 CFR 180.169 from “vegetable, foliage legume, group 7” to “vegetable, foliage of legume, subgroup 7A, except soybean;” in 40 CFR 180.229(d) from “grain, cereal, forage group 16” to “grain, cereal, forage, fodder, and straw, group 16, forage” and “grain, cereal, fodder, and straw group 16” to “grain, cereal, forage, fodder, and straw, group 16, stover” and in 40 CFR 180.276 from “orange, sweet” to “orange.”

B. What is the Agency's Authority for Taking this Action?

EPA may issue a regulation establishing, modifying, or revoking a tolerance under FFDCA section 408(e). In this final rule, EPA is establishing, modifying, and revoking tolerances to implement the tolerance recommendations made during the reregistration and tolerance reassessment processes, and as follow-up on canceled uses of pesticides. As part of these processes, EPA is required to determine whether each of the amended tolerances meets the safety standards under FFDCA. The safety finding determination is found in detail in each post-FQPA RED and TRED for the active ingredient. REDs and TREDs recommend the implementation of certain tolerance actions, including modifications to reflect current use patterns, to meet safety findings, and change commodity names and groupings in accordance with new EPA policy. Printed and electronic copies of the REDs and TREDs are available as provided in Unit II.A.

EPA has issued post-FQPA REDs and TREDs for benfluralin, carbaryl, diazinon, dicrotophos, fluometuron, formetanate-hydrochloride, metolachlor, napropamide, norflurazon, pyrazon and tau-fluvalinate. Also, EPA issued a RED prior to FQPA for glyphosate and made a safety finding which reassessed its tolerances according to FFDCA standard, maintaining them when new tolerances were established as noted in Unit II.A. REDs and TREDs contain the Agency's evaluation of the database for these pesticides, including statements regarding additional data on the active ingredients that may be needed to confirm the potential human health and environmental risk assessments associated with current product uses, and REDs state conditions under which these uses and products will be eligible for reregistration. The REDs and TREDs recommended the establishment, modification, and/or revocation of specific tolerances. RED and TRED recommendations such as establishing or modifying tolerances, and in some cases revoking tolerances, are the result of assessment under the FFDCA standard of “reasonable certainty of no harm.” However, tolerance revocations recommended in REDs and TREDs that are made final in this document do not need such assessment when the tolerances are no longer necessary.

EPA's general practice is to revoke tolerances for residues of pesticide active ingredients on crops for which FIFRA registrations no longer exist and on which the pesticide may therefore no longer be used in the United States. EPA has historically been concerned that retention of tolerances that are not necessary to cover residues in or on legally treated foods may encourage misuse of pesticides within the United States. Nonetheless, EPA will establish and maintain tolerances even when corresponding domestic uses are canceled if the tolerances, which EPA refers to as “import tolerances,” are necessary to allow importation into the United States of food containing such pesticide residues. However, where there are no imported commodities that require these import tolerances, the Agency believes it is appropriate to revoke tolerances for unregistered pesticides in order to prevent potential misuse.

When EPA establishes tolerances for pesticide residues in or on raw agricultural commodities, the Agency gives consideration to possible pesticide residues in meat, milk, poultry, and/or eggs produced by animals that are fed agricultural products (for example, grain or hay) containing pesticides residues (40 CFR 180.6). If there is no reasonable expectation of finite pesticide residues in or on meat, milk, poultry, or eggs, then tolerances do not need to be established for these commodities (40 CFR 180.6(b) and 180.6 (c)).

C. When Do These Actions Become Effective?

With the exception of certain tolerances for carbaryl and napropamide, for which EPA added specific expiration/revocation dates, the Agency is revoking, modifying, and establishing specific tolerances, and revising specific commodity terminologies effective on the date of publication of this final rule in the Federal Register. With the exception of tolerances for carbaryl and napropamide with specific expiration/revocation dates provided herein, the Agency believes that existing stocks of pesticide products labeled for the uses associated with the revoked tolerances have been completely exhausted and that treated commodities have had sufficient time for passage through the channels of trade. The Agency believes that these expiration dates allow users to exhaust stocks and allows sufficient time for passage of treated commodities through the channels of trade.

Any commodities listed in the regulatory text of this document that are treated with the pesticides subject to this final rule, and that are in the channels of trade following the tolerance revocations, shall be subject to FFDCA section 408(1)(5), as established by FQPA. Under this unit, any residues of these pesticides in or on such food shall not render the food adulterated so long as it is shown to the satisfaction of the Food and Drug Administration (FDA) that:

1. The residue is present as the result of an application or use of the pesticide at a time and in a manner that was lawful under FIFRA.

2. The residue does not exceed the level that was authorized at the time of the application or use to be present on the food under a tolerance or exemption from tolerance. Evidence to show that food was lawfully treated may include records that verify the dates that the pesticide was applied to such food.

III. Are There Any International Trade Issues Raised by This Final Action?

In making its tolerance decisions, EPA seeks to harmonize U.S. tolerances with international standards whenever possible, consistent with U.S. food safety standards and agricultural practices. EPA considers the international Maximum Residue Limits (MRLs) established by the Codex Alimentarius Commission, as required by section 408(b)(4) of FFDCA. The Codex Alimentarius is a joint U.N. Food and Agriculture Organization/World Health Organization food standards program, and it is recognized as an international food safety standards-setting organization in trade agreements to which the United States is a party. EPA may establish a tolerance that is different from a Codex MRL; however, FFDCA section 408(b)(4) requires that EPA explain the reasons for departing from the Codex level in a document published for public comment. EPA's effort to harmonize with Codex MRLs is summarized in the tolerance reassessment section of individual REDs and TREDs, and in the Residue Chemistry document which supports the RED and TRED, as mentioned in the proposed rule cited in Unit II.A. Specific tolerance actions in this rule and how they compare to Codex MRLs (if any) is discussed in Unit II.A.

IV. Statutory and Executive Order Reviews

In this final rule, EPA establishes tolerances under FFDCA section 408(e), and also modifies and revokes specific tolerances established under FFDCA section 408. The Office of Management and Budget (OMB) has these types of actions (i.e., establishment and modification of a tolerance and tolerance revocation for which extraordinary circumstances do not exist) from review under Executive Order 12866, entitled Regulatory Planning and Review (58 FR 51735, October 4, 1993). Because this final rule has been exempted from review under Executive Order 12866 due to its lack of significance, this final rule is not subject to Executive Order 13211, entitled Actions Concerning Regulations That Significantly Affect Energy Supply, Distribution, or Use (66 FR 28355, May 22, 2001). This final rule does not contain any information collections subject to OMB approval under the Paperwork Reduction Act (PRA), 44 U.S.C. 3501 et seq., or impose any enforceable duty or contain any unfunded mandate as described under Title II of the Unfunded Mandates Reform Act of 1995 (UMRA) (Public Law 104-4). Nor does it require any special considerations as required by Executive Order 12898, entitled Federal Actions to Address Environmental Justice in Minority Populations and Low-Income Populations (59 FR 7629, February 16, 1994); or OMB review or any other Agency action under Executive Order 13045, entitled Protection of Children from Environmental Health Risks and Safety Risks (62 FR 19885, April 23, 1997). This action does not involve any technical standards that would require Agency consideration of voluntary consensus standards pursuant to section 12(d) of the National Technology Transfer and Advancement Act of 1995 (NTTAA), Public Law 104-13, section 12(d) (15 U.S.C. 272 note). Pursuant to the Regulatory Flexibility Act (RFA) (5 U.S.C. 601 et seq.), the Agency previously assessed whether establishment of tolerances, exemptions from tolerances, raising of tolerance levels, expansion of exemptions, or revocations might significantly impact a substantial number of small entities and concluded that, as a general matter, these actions do not impose a significant economic impact on a substantial number of small entities. These analyses for tolerance establishments and modifications, and for tolerance revocations were published on May 4, 1981 (46 FR 24950) and on December 17, 1997 (62 FR 66020) (FRL-5753-1), respectively, and were provided to the Chief Counsel for Advocacy of the Small Business Administration. Taking into account this analysis, and available information concerning the pesticides listed in this final rule, the Agency hereby certifies that this final rule will not have a significant economic impact on a substantial number of small entities. In a memorandum dated May 25, 2001, EPA determined that eight conditions must all be satisfied in order for an import tolerance or tolerance exemption revocation to adversely affect a significant number of small entity importers, and that there is a negligible joint probability of all eight conditions holding simultaneously with respect to any particular revocation. (This Agency document is available in the docket for this rule, as mentioned in Unit II.A.). Furthermore, for the pesticides named in this final rule, the Agency knows of no extraordinary circumstances that exist as to the present revocations that would change EPA's previous analysis. In addition, the Agency has determined that this action will not have a substantial direct effect on States, on the relationship between the national government and the States, or on the distribution of power and responsibilities among the various levels of government, as specified in Executive Order 13132, entitled Federalism (64 FR 43255, August 10, 1999). Executive Order 13132 requires EPA to develop an accountable process to ensure “meaningful and timely input by State and local officials in the development of regulatory policies that have federalism implications.” “Policies that have federalism implications” is defined in the Executive order to include regulations that have “substantial direct effects on the States, on the relationship between the national government and the States, or on the distribution of power and responsibilities among the various levels of government.” This final rule directly regulates growers, food processors, food handlers, and food retailers, not States. This action does not alter the relationships or distribution of power and responsibilities established by Congress in the preemption provisions of section 408(n)(4) of FFDCA. For these same reasons, the Agency has determined that this final rule does not have any “tribal implications” as described in Executive Order 13175, entitled Consultation and Coordination with Indian Tribal Governments (65 FR 67249, November 9, 2000). Executive Order 13175, requires EPA to develop an accountable process to ensure “meaningful and timely input by tribal officials in the development of regulatory policies that have tribal implications.” “Policies that have tribal implications” is defined in the Executive order to include regulations that have “substantial direct effects on one or more Indian tribes, on the relationship between the Federal Government and the Indian tribes, or on the distribution of power and responsibilities between the Federal Government and Indian tribes.” This final rule will not have substantial direct effects on tribal governments, on the relationship between the Federal Government and Indian tribes, or on the distribution of power and responsibilities between the Federal Government and Indian tribes, as specified in Executive Order 13175. Thus, Executive Order 13175 does not apply to this final rule.

V. Congressional Review Act

The Congressional Review Act, 5 U.S.C. 801 et seq., generally provides that before a rule may take effect, the agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Agricultural commodities, Pesticides and pests, Reporting and recordkeeping requirements.

Dated: September 3, 2008.
Debra Edwards,
Director, Office of Pesticide Programs.

Therefore, 40 CFR chapter I is amended as follows:

PART 180—[AMENDED]

1. The authority citation for part 180 continues to read as follows:

Authority: 21 U.S.C. 321(q), 346a and 371.

2. Section 180.153 is amended by revising paragraphs (a) and (c) to read as follows:

§ 180.153 Diazinon; tolerances for residues.

(a) General. Tolerances are established for residues of the insecticide diazinon, O,O-diethyl O-[6-methyl-2-(1-methylethyl)-4-pyrimidinyl]phosphorothioate (CAS No. 333-41-5), in or on the following food commodities:

Commodity | Parts per million
Almond, hulls | 3.0
Apple | 0.50
Apricot | 0.20
Bean, lima | 0.50
Bean, snap, succulent | 0.50
Beet, garden, roots | 0.75
Beet, garden, tops | 0.70
Blueberry | 0.50
Caneberry subgroup 13-07A | 0.75
Carrot, roots | 0.75
Cattle, fat | 0.50
Cherry, sweet | 0.20
Cherry, tart | 0.20
Cranberry | 0.50
Endive | 0.70
Fig | 0.50
Ginseng | 0.75
Hazelnut | 0.50
Kiwifruit¹ | 0.75
Lettuce | 0.70
Melon | 0.75
Nectarine | 0.20
Onion, bulb | 0.75
Onion, green | 0.75
Pea, succulent | 0.50
Peach | 0.20
Pear | 0.50
Pineapple | 0.50
Plum, prune, fresh | 0.20
Radish | 0.50
Rutabaga | 0.75
Spinach | 0.70
Strawberry | 0.50
Tomato | 0.75
Vegetable, brassica, leafy, group 5 | 0.70
Watercress | 0.05
¹There are no domestic registrations for kiwifruit as of March 6, 2002.

(c) Tolerances with regional registrations. Tolerances with regional registration, as defined in §180.1(m), are established for residues of the insecticide diazinon, O, O-diethyl O-[6-methyl-2-(1-methylethyl)-4-pyrimidinyl]-phosphorothioate (CAS No. 333-41-5), in or on the following food commodities:

Commodity | Parts per million
Almond | 0.50
Banana | 0.20
Celery | 0.70
Cucumber | 0.75
Parsley, leaves | 0.75
Parsnip | 0.50
Pepper | 0.5
Potato | 0.10
Potato, sweet | 0.10
Squash, summer | 0.50
Squash, winter | 0.75
Swiss chard | 0.70
Turnip, roots | 0.50
Turnip, tops | 0.75

3. Section 180.169 is amended by revising paragraphs (a)(1), (a)(2), and (c) read as follows:

§ 180.169 Carbaryl; tolerances for residues.

(a) * * * (1) Tolerances are established for residues of the insecticide carbaryl, 1-naphthyl N-methylcarbamate per se, in or on the following food commodities:

Commodity | Parts per million | Expiration/revocation date
Alfalfa, forage | 50 | None
Alfalfa, hay | 75 | None
Almond, hulls | 50 | None
Apple, wet pomace | 15 | None
Asparagus | 15 | None
Banana | 5.0 | None
Beet, sugar, roots | 0.5 | None
Beet, sugar, tops | 25 | None
Bushberry subgroup 13-07B | 3.0 | None
Cabbage | 21 | None
Cactus, fruit | 5.0 | None
Cactus, pads | 12 | None
Caneberry subgroup 13-07A | 12.0 | None
Citrus, oil | 20 | None
Clover, forage | 50 | None
Clover, hay | 70 | None
Corn, field, forage | 30 | None
Corn, field, grain | 0.02 | None
Corn, field, stover | 20 | None
Corn, pop, grain | 0.02 | None
Corn, pop, stover | 20 | None
Corn, sweet, forage | 185 | None
Corn, sweet, kernel plus cob with husks removed | 0.1 | None
Corn, sweet, stover | 215 | None
Cotton, undelinted seed | 5.0 | 10/31/09
Cranberry | 3.0 | None
Dandelion, leaves | 22 | None
Endive | 10 | None
Flax, seed | 0.5 | None
Fruit, citrus, group 10 | 10 | None
Fruit, pome, group 11 | 12 | None
Fruit, stone, group 12 | 10 | None
Grain, aspirated fractions | 70 | None
Grape | 10 | None
Grape, raisin | 12 | None
Grass, forage | 100 | None
Grass, hay | 15 | None
Leaf petiole subgroup 4B | 3.0 | None
Lettuce | 10 | None
Millet, proso, grain | 1.0 | None
Millet, proso, straw | 20 | None
Nut, tree group 14, except walnut | 0.1 | None
Okra | 4.0 | None
Olive | 10 | None
Oyster | 0.25 | None
Parsley, leaves | 22 | None
Pea and bean, dried shelled, except soybean, subgroup 6C | 1.0 | None
Peanut | 0.05 | None
Peanut, hay | 20 | None
Pineapple | 2.0 | None
Pistachio | 0.1 | None
Rice, grain | 15 | None
Rice, hulls | 30 | None
Rice, straw | 60 | None
Sorghum grain, forage | 30 | None
Sorghum grain, grain | 10 | None
Sorghum grain, stover | 30 | None
Soybean, forage | 15 | None
Soybean, hay | 15 | None
Soybean, seed | 0.5 | None
Spinach | 22 | None
Strawberry | 4.0 | None
Sunflower, seed | 0.5 | None
Sweet potato, roots | 0.2 | None
Trefoil, forage | 15 | None
Trefoil, hay | 25 | None
Vegetable, brassica, leafy, group 5, except cabbage | 10 | None
Vegetable, cucurbit, group 9 | 3.0 | None
Vegetable, foliage of legume, subgroup 7A, except soybean | 60 | None
Vegetable, fruiting, group 8 | 5.0 | None
Vegetable, leaves of root and tuber, group 2, except sugar beet tops | 75 | None
Vegetable, legume, edible podded, subgroup 6A | 10 | None
Vegetable, root and tuber, group 1, except sugar beet and sweet potato | 2.0 | None
Walnut | 1.0 | None
Wheat, forage | 30 | None
Wheat, grain | 1.0 | None
Wheat, hay | 30 | None
Wheat, straw | 20 | None

(2) Tolerances are established for residues of the insecticide carbaryl, 1-naphthyl N-methylcarbamate, including its metabolites: 1-naphthol (naphthyl-sulfate); 5,6-dihydrodihydroxycarbaryl; and 5,6-dihydrodihydroxy naphthol, calculated as 1-naphthyl N-methylcarbamate and the free and conjugated residues of carbaryl: 5,6-dihydro-5,6-dihydroxy carbaryl and 5-methoxy-6-hydroxy carbaryl, in or on the following food commodities:

Commodity | Parts per million | Expiration/revocation date
Cattle, fat | 0.5 | None
Cattle, meat | 1.0 | None
Cattle, meat byproducts | 3.0 | None
Egg | 0.5 | 10/31/09
Goat, fat | 0.5 | None
Goat, meat | 1.0 | None
Goat, meat byproducts | 3.0 | None
Hog, fat | 0.5 | None
Hog, meat | 1.0 | None
Hog, meat byproducts | 3.0 | None
Horse, fat | 0.5 | None
Horse, meat | 1.0 | None
Horse, meat byproducts | 3.0 | None
Milk | 1.0 | None
Poultry, fat | 5.0 | 10/31/09
Poultry, meat | 5.0 | 10/31/09
Sheep, fat | 0.5 | None
Sheep, meat | 1.0 | None
Sheep, meat byproducts | 3.0 | None

(c) Tolerances with regional registrations. Tolerances with regional registrations, as defined in § 180.1(m), are established for residues of the insecticide carbaryl, 1-naphthyl N-methylcarbamate per se, in or on the following food commodities:

Commodity | Parts per million
Dillweed, fresh leaves | 0.2

4. Section 180.208 is amended by revising the section heading and paragraph (a) to read as follows:

§ 180.208 Benfluralin; tolerances for residues.

(a) General. Tolerances are established for residues of the herbicide benfluralin, N-butyl-N-ethyl-ααα-trifluoro-2,6-dinitro-p-toluidine, in or on the following food commodities:

Commodity | Parts per million
Alfalfa, forage | 0.05
Alfalfa, hay | 0.05
Clover, forage | 0.05
Clover, hay | 0.05
Lettuce | 0.05
Trefoil, forage | 0.05
Trefoil, hay | 0.05

5. Section 180.229 is revised to read as follows:

§ 180.229 Fluometuron; tolerances for residues.

(a) General. (1) Tolerances are established for the combined residues of the herbicide fluometuron, N, N-dimethyl-N'-[3-(trifluoromethyl)phenyl]urea, and its metabolite, trifluoromethylaniline (TFMA) determined as TFMA, in or on the following food commodities:

Commodity | Parts per million
Cotton, gin byproducts | 3.5
Cotton, undelinted seed | 1.0

(2) Tolerances are established for the combined residues of the herbicide fluometuron, N,N-dimethyl-N'-[3-(trifluoromethyl)phenyl]urea, and its metabolites determined as TFMA and the hydroxylated metabolites: CGA-236431, 1-(4-hydroxy-3-trifluoromethylphenyl)urea; CGA-236432, 1-methyl-3-(4-hydroxy-3-trifluoromethylphenyl)urea; and CGA-13211, 1,1-dimethyl-3-(4-hydroxy-3-trifluoromethylphenyl)urea, in or on the following food commodities:

Commodity | Parts per million
Cattle, meat byproducts | 0.1
Egg | 0.1
Goat, meat byproducts | 0.1
Hog, meat byproducts | 0.1
Horse, meat byproducts | 0.1
Milk | 0.02
Poultry, fat | 0.1
Poultry, meat | 0.1
Poultry, meat byproducts | 0.1
Sheep, meat byproducts | 0.1

(b) Section 18 emergency exemptions. [Reserved]

(c) Tolerances with regional registrations. [Reserved]

(d) Indirect or inadvertent residues. Tolerances are established for the combined residues of the herbicide fluometuron, N, N-dimethyl-N'-[3-(trifluoromethyl)phenyl]urea, and its metabolite, trifluoromethylaniline (TFMA) determined as TFMA, in or on the following food commodities.

Commodity | Parts per million
Grain, cereal, forage, fodder, and straw group 16, forage | 3.0
Grain, cereal, forage, fodder, and straw, group 16, stover | 6.0
Grain, cereal, group 15 | 0.5
Peanut | 0.1
Peanut, hay | 4.0
Peanut, meal | 0.2
Soybean, forage | 3.0
Soybean, hay | 3.0
Soybean, seed | 2.0
Rice, hulls | 1.0
Wheat, milled byproducts | 1.0

6. Section 180.276 is amended by revising the table in paragraph (a) to read as follows:

§ 180.276 Formetanate hydrochloride; tolerances for residues.

(a) * * *

Commodity | Parts per million
Apple | 0.50
Apple, wet pomace | 1.5
Grapefruit | 1.5
Lemon | 0.60
Lime | 0.03
Nectarine | 0.40
Orange | 1.5
Peach | 0.40
Pear | 0.50
Tangelo | 0.03
Tangerine | 0.03

* * * * *

7. Section 180.299 is revised to read as follows:

§ 180.299 Dicrotophos; tolerances for residues.

(a) General. Tolerances are established for residues of the insecticide dicrotophos, dimethyl phosphate of 3-hydroxy-N,N-dimethyl-cis-crotonamide, in or on the following food commodities:

Commodity | Parts per million
Cotton, gin byproducts | 2.0
Cotton, undelinted seed | 0.2

(b) Section 18 emergency exemptions. [Reserved]

(c) Tolerances with regional registrations. [Reserved]

(d) Indirect or inadvertent residues. [Reserved]

8. Section 180.316 is amended by revising the table in paragraph (a) and paragraph (d) to read as follows:

§ 180.316 Pyrazon; tolerances for residues.

(a) * * *

Commodity | Parts per million
Beet, garden, roots | 0.9
Beet, garden, tops | 7.0
Beet, sugar, molasses | 1.5
Beet, sugar, roots | 0.2
Beet, sugar, tops | 3.0
Cattle, fat | 0.10
Cattle, liver | 0.15
Cattle, meat | 0.10
Cattle, meat byproducts, except liver | 0.10
Goat, fat | 0.10
Goat, liver | 0.15
Goat, meat | 0.10
Goat, meat byproducts, except liver | 0.10
Horse, fat | 0.10
Horse, liver | 0.15
Horse, meat | 0.10
Horse, meat byproducts, except liver | 0.10
Milk | 0.02
Sheep, fat | 0.10
Sheep, liver | 0.15
Sheep, meat | 0.10
Sheep, meat byproducts, except liver | 0.10

(d) Indirect or inadvertent residues. Tolerances are established for combined residues of the herbicide pyrazon, 5-amino-4-chloro-2-phenyl-3(2H)-pyridazinone, and its metabolites (calculated as pyrazon), in or on the following food commodities:

Commodity | Parts per million
Corn, field, forage | 0.5
Corn, field, stover | 0.5
Soybean, forage | 0.5
Soybean, hay | 0.5
Wheat, forage | 0.3
Wheat, hay | 0.2
Wheat, straw | 0.1

§ 180.319 [Amended]

9. Section 180.319 is amended by removing the entry “Carbaryl (1-naphthyl N-methylcarbamate and its metabolite 1-naphthol, calculated as carbaryl” from the table.

10. Section 180.328 is revised to read as follows:

§ 180.328 Napropamide; tolerances for residues.

(a) General. Tolerances are established for residues of the herbicide napropamide, N,N-diethyl-2-(1-napthalenyloxy) propionamide, in or on the following food commodities:

Commodity | Parts per million | Expiration/revocation date
Almond, hulls | 0.1 | None
Artichoke, globe | 0.1 | 4/26/09
Asparagus | 0.1 | None
Avocado | 0.1 | 4/26/09
Basil | 0.1 | None
Berry group 13 | 0.1 | None
Coffee, green bean | 0.1 | None
Cranberry | 0.1 | None
Fig | 0.1 | 4/26/09
Fruit, citrus | 0.1 | 4/26/09
Fruit, pome | 0.1 | 4/26/09
Fruit, stone | 0.1 | 4/26/09
Grape | 0.1 | None
Kiwifruit | 0.1 | None
Marjoram | 0.1 | None
Nut, tree, group 14 | 0.1 | None
Olive | 0.1 | 4/26/09
Peppermint, tops | 0.1 | None
Persimmon | 0.1 | None
Pistachio | 0.1 | 04/26/09
Rhubarb | 0.1 | None
Rosemary | 0.1 | None
Savory, summer | 0.1 | None
Savory, winter | 0.1 | None
Spearmint, tops | 0.1 | None
Strawberry | 0.1 | None
Sweet potato, roots | 0.1 | None
Vegetable, brassica, leafy, group 5 | 0.1 | None
Vegetable, fruiting, group 8 | 0.1 | None

(b) Section 18 emergency exemptions. [Reserved]

(c) Tolerances with regional registrations. Tolerances are established for residues of the herbicide napropamide, N,N-diethyl-2-(1-napthalenyloxy) propionamide, in or on the following food commodities:

Commodity | Parts per million | Expiration/revocation date
Pomegranate | 0.1 | 4/26/09

(d) Indirect or inadvertent residues. [Reserved]

11. Section 180.356 is amended by revising the following commodities in the table in paragraph (a) to read as follows:

§ 180.356 Norflurazon; tolerances for residues.

(a) * * *

Commodity | Parts per million
* * * * *
Cattle, liver | 0.50
* * * * *
Goat, liver | 0.50
* * * * *
Hog, liver | 0.50
* * * * *
Horse, liver | 0.50
* * * * *
Sheep, liver | 0.50
* * * * *

12. Section 180.364 is amended by revising the table in paragraph (a) to read as follows:

§ 180.364 Glyphosate; tolerances for residues.

(a) * * *

Commodity | Parts per million
Acerola | 0.2
Alfalfa, seed | 0.5
Almond, hulls | 25
Aloe vera | 0.5
Ambarella | 0.2
Animal feed, nongrass, group 18 | 400
Artichoke, globe | 0.2
Asparagus | 0.5
Atemoya | 0.2
Avocado | 0.2
Bamboo, shoots | 0.2
Banana | 0.2
Barley, bran | 30
Beet, sugar, dried pulp | 25
Beet, sugar, roots | 10
Beet, sugar, tops | 10
Berry group 13 | 0.2
Betelnut | 1.0
Biriba | 0.2
Blimbe | 0.2
Borage, seed | 0.1
Breadfruit | 0.2
Cacao bean | 0.2
Cactus, fruit | 0.5
Cactus, pads | 0.5
Canistel | 0.2
Canola, seed | 20
Cattle, meat byproducts | 5.0
Chaya | 1.0
Cherimoya | 0.2
Citrus, dried pulp | 1.5
Coconut | 0.1
Coffee, bean | 1.0
Corn, field, forage | 6.0
Corn, field, grain | 5.0
Corn, pop, grain | 0.1
Corn, sweet, grain | 0.1
Cotton, gin byproducts | 175
Cotton, undelinted seed | 40
Cranberry | 0.2
Crambe, seed | 0.1
Custard apple | 0.2
Date | 0.2
Dokudami | 2.0
Durian | 0.2
Egg | 0.05
Epazote | 1.3
Feijoa | 0.2
Fig | 0.2
Fish | 0.25
Flax, meal | 8.0
Flax, seed | 4.0
Fruit, citrus, group 10 | 0.5
Fruit, pome, group 11 | 0.2
Fruit, stone, group 12 | 0.2
Galangal, roots | 0.2
Ginger, white, flower | 0.2
Goat, meat byproducts | 5.0
Gourd, buffalo, seed | 0.1
Governor's plum | 0.2
Gow kee, leaves | 0.2
Grain, aspirated fractions | 100
Grain, cereal, forage, fodder and straw, group 16, except field corn, forage | 100
Grain, cereal, group 15 except field corn, popcorn, rice, sweet corn, and wild rice | 30
Grape | 0.2
Grass, forage, fodder and hay, group 17 | 300
Guava | 0.2
Herbs subgroup 19A | 0.2
Hog, meat byproducts | 5.0
Hop, dried cones | 7.0
Horse, meat byproducts | 5.0
Ilama | 0.2
Imbe | 0.2
Imbu | 0.2
Jaboticaba | 0.2
Jackfruit | 0.2
Jojoba, seed | 0.1
Juneberry | 0.2
Kava, roots | 0.2
Kenaf, forage | 200
Kiwifruit | 0.2
Lesquerella, seed | 0.1
Leucaena, forage | 200
Lingonberry | 0.2
Longan | 0.2
Lychee | 0.2
Mamey apple | 0.2
Mango | 0.2
Mangosteen | 0.2
Marmaladebox | 0.2
Meadowfoam, seed | 0.1
Mioga, flower | 0.2
Mustard, seed | 0.1
Noni | 0.20
Nut, pine | 1.0
Nut, tree, group 14 | 1.0
Okra | 0.5
Olive | 0.2
Oregano, Mexican, leaves | 2.0
Palm heart | 0.2
Palm heart, leaves | 0.2
Palm, oil | 0.1
Papaya | 0.2
Papaya, mountain | 0.2
Passionfruit | 0.2
Pawpaw | 0.2
Pea, dry | 8.0
Peanut | 0.1
Peanut, hay | 0.5
Pepper leaf, fresh leaves | 0.2
Peppermint, tops | 200
Perilla, tops | 1.8
Persimmon | 0.2
Pineapple | 0.1
Pistachio | 1.0
Pomegranate | 0.2
Poultry, meat | 0.1
Poultry, meat byproducts | 1.0
Pulasan | 0.2
Quinoa, grain | 5.0
Rambutan | 0.2
Rapeseed, seed | 20
Rice, grain | 0.1
Rice, wild, grain | 0.1
Rose apple | 0.2
Safflower, seed | 85
Salal | 0.2
Sapodilla | 0.2
Sapote, black | 0.2
Sapote, mamey | 0.2
Sapote, white | 0.2
Sesame, seed | 0.1
Sheep, meat byproducts | 5.0
Shellfish | 3.0
Soursop | 0.2
Soybean, forage | 100
Soybean, hay | 200
Soybean, hulls | 100
Soybean, seed | 20
Spanish lime | 0.2
Spearmint, tops | 200
Spice subgroup 19B | 7.0
Star apple | 0.2
Starfruit | 0.2
Stevia, dried leaves | 1.0
Strawberry | 0.2
Sugar apple | 0.2
Sugarcane, cane | 2.0
Sugarcane, molasses | 30
Sunflower, seed | 85
Surinam cherry | 0.2
Tamarind | 0.2
Tea, dried | 1.0
Tea, instant | 7.0
Teff, grain | 5.0
Ti, leaves | 0.2
Ti, roots | 0.2
Ugli fruit | 0.5
Vegetable, bulb, group 3 | 0.2
Vegetable, cucurbit, group 9 | 0.5
Vegetable, foliage of legume, subgroup 7A, except soybean | 0.2
Vegetable, fruiting, group 8 | 0.1
Vegetable, leafy, brassica, group 5 | 0.2
Vegetable, leafy, except brassica, group 4 | 0.2
Vegetable, leaves of root and tuber, group 2, except sugar beet tops | 0.2
Vegetable, legume, group 6 except soybean and dry pea | 5.0
Vegetable, root and tuber, group 1, except sugar beet | 0.2
Wasabi, roots | 0.2
Water spinach, tops | 0.2
Watercress, upland | 0.2
Wax jambu | 0.2
Yacon, tuber | 0.2

13. Section 180.368 is amended by alphabetically adding the following commodities to the table in paragraph (a)(1) to read as follows:

§ 180.368 Metolachlor; tolerances for residues.

(a) * * * (1) * * *

Commodity | Parts per million
* * * * *
Dill | 0.50
* * * * *
Grass, forage | 10
Grass, hay | 0.20
* * * * *
Okra | 0.50
* * * * *
Spinach | 0.50
Tomato | 0.10
* * * * *

14. Section 180.427 is amended by revising the section heading and paragraph (a) to read as follows:

§ 180.427 Tau-Fluvalinate; tolerances for residues.

(a) General. Tolerances are established for residues of the insecticide tau-fluvalinate, cyano-(3-phenoxyphenyl)methyl N-[2-chloro-4-(trifluoromethyl)phenyl]-D-valinate, in or on the following food commodities:

Commodity | Parts per million
Honey | 0.02

[FR Doc. E8-20993 Filed 9-9-08; 8:45 am]

BILLING CODE 6560-50-S